DEPARTMENT OF HEALTH AND HUMAN SERVICES

Centers for Disease Control and Prevention

[Program Announcement 04003]

Health Promotion and Disease Prevention Research Centers; Notice of Availability of Funds

Application Deadline: June 16, 2003.

A. Authority and Catalog of Federal Domestic Assistance Number

This program is authorized under sections 301(a), 317(k)(2) and 1706 (42 U.S.C. 241(a), 247b(k)(2) and 300 u-5) of the Public Health Service Act, as amended. The Catalog of Federal Domestic Assistance number is 93.135.

B. Purpose

The Centers for Disease Control and Prevention (CDC) announces the availability of fiscal year (FY) 2004 funds for a cooperative agreement program to fund Health Promotion and Disease Prevention Research Centers (PRCs). This program addresses the Healthy People 2010 focus areas of Access to Quality Health Services, Cancer, Diabetes, Disability and Secondary Conditions, Educational and Community-Based Programs, Health Communications, Nutrition and Overweight, and Physical Activity and Fitness.

In 1984, Congress authorized the Secretary of the Department of Health and Human Services (HHS) to create a network of academic health centers to conduct applied public health research. As the designated administrator of the PRC Program, CDC provides leadership, technical assistance, and oversight.

The purpose of the PRC Program is to support health promotion and disease prevention research that (1) focuses on the major causes of death and disability, (2) improves public health practice within communities, and (3) cultivates effective state and local public health programs. One of the major focuses of the PRCs is to design, test, and disseminate effective prevention research strategies. The program's “Guiding Principles and Policy Statement for Core Research Projects” are available at: http://www.cdc.gov/prc.

Measurable outcomes of the program will be in alignment with the following performance goal for the National Center for Chronic Disease Prevention and Health Promotion: to support prevention research to develop sustainable and transferable community-based behavioral interventions.

C. Eligible Applicants

Applications may be submitted by schools of public health, schools of medicine or osteopathy with an accredited Preventive Medicine Residency that have:

1. A multidisciplinary faculty with expertise in public health, and working relationships with relevant groups in such fields as medicine, psychology, nursing, social work, education and business.

2. Graduate training programs relevant to disease prevention.

3. A core faculty in epidemiology, biostatistics, social sciences, behavioral and environmental sciences, and health administration.

4. A demonstrated curriculum in disease prevention.

5. A capability for residency training in public health or preventive medicine.

First Round of Competition

For this round of competition, assistance will be provided only to the universities currently funded under Program Announcements 98047, 00089, and 01101. All three announcements are entitled “Health Promotion and Disease Prevention Research Centers.” The eligible universities are as follows: University of Washington, Yale University, Harvard University, Columbia University, The Johns Hopkins University, West Virginia University, University of North Carolina at Chapel Hill, University of South Carolina, University of Alabama at Birmingham, Morehouse School of Medicine, University of South Florida, University of Illinois at Chicago, University of Minnesota, University of Michigan, University of Texas Health Science Center at Houston, University of Oklahoma, University of New Mexico, Tulane University, Saint Louis University, University of Colorado, University of California at Berkeley, University of Arizona, University of California at Los Angeles, University of Kentucky, Boston University, University of Pittsburgh, State University of New York at Albany, and University of Iowa.

Competition is limited to these universities because they are uniquely positioned to perform, oversee, and coordinate community-based participatory research that promotes the field of prevention research, due to their established relationships with community partners. Applications receiving a quality score of 80 or above will be considered for funding. If sufficient applications do not obtain scores of 80 or greater, funding consideration will be given to applications that score 75 or above.

Note: Only one application will be accepted from each university.

Second Round of Competition

Pending the availability of funds, eligible applicants not receiving a fundable quality score during the first round of competition and all other applicants meeting the eligibility requirements listed at the beginning of the Eligible Applicants section will be considered during the second round of competition. Specific guidance with exact due dates for the second round of competition will be announced at a later date.

Additionally, beginning in FY 2005, and for each of the remaining years for this program announcement (September 30, 2005 through September 29, 2009), there will be a competitive application process. Specific guidance will be provided with exact due dates and funding levels each year.

Note: Title 2 of the United States Code section 1611 states that an organization described in section 501(c)(4) of the Internal Revenue Code that engages in lobbying activities is not eligible to receive Federal funds constituting an award, grant, or loan.

D. Funding

Availability of Funds

Approximately $14,000,000 will be available in FY 2004 to fund approximately 18 awards. It is expected that the average award will be approximately $750,000 to $850,000 per center. The awards are expected to begin on or about September 15, 2004, and will be made for a 12-month budget period within a project period of up to five years. Funding estimates may change.

Continuation awards within an approved project period will be made on the basis of satisfactory progress toward performance measures, as evidenced by required reports, and the availability of funds.

Direct Assistance

You may request Federal personnel in lieu of a portion of financial assistance. (See the Application Content section of this announcement for more information on how to request direct assistance.)

Use of Funds

The applicant should allocate funds to support evaluation activities related to the center. In addition, funds should be allocated to support communication activities, including the input and maintenance of information for the PRC Information System (See Appendix A for a description of the PRC Information System. All appendices referenced in this announcement are posted on the CDC Website with the full announcement.)

Funding Preferences

In the second round of competition, funding preference will be based on selecting applicants in order to maintain an equitable geographic distribution of centers. Funding preference will also be given to applicants that demonstrate a focus on the public health needs of rural populations.

Recipient Financial Participation

Matching funds are not required for this program.

E. Program Requirements

In conducting activities to achieve the purpose of this program, the recipient will be responsible for the activities under item 1. Recipient Activities, and CDC will be responsible for the activities under item 2. CDC Activities.

1. Recipient Activities

a. Create a logic model for the prevention research center. This logic model can be adapted from the national PRC Program conceptual framework (See Appendix B for a description) to fit the specific inputs, activities, outputs, and outcomes of the center. Write an accompanying narrative that includes a description of how the center-level components relate to the national PRC framework.

b. Evaluate the center based on the center's logic model, particularly addressing critical components related to the center's stated outcomes. Describe how the center's evaluation will contribute to CDC's national program evaluation, including the core performance indicators. (See Appendix D for a list of the indicators.)

c. Establish or maintain a center community committee. Define the role and composition of the committee, how the center will communicate with the committee, and how it will link to the CDC PRC National Community Committee (NCC). (See Appendix C for a description of the CDC PRC NCC.)

d. Establish and maintain partnerships (e.g., state and local health departments, community groups and agencies, and academic units), and include these partners, when applicable, in the center activities.

e. Identify national, regional, or local health priorities and health disparities within the defined community. Involve center partners when identifying the health priorities and health disparities, and provide evidence of such involvement.

f. Develop the center's participatory, community-based core research project and the center's five-year research agenda. Ensure the core research project and other proposed research activities are grounded in sound research methods and further the field of prevention research consistent with the purpose of this announcement. Plan the core research project in collaboration with community partners and provide evidence of such collaboration. Each center is required to conduct at least one core research project. (See the application content section of this announcement for additional information.)

g. Communicate and disseminate the center's research findings and research products.

h. Establish the appropriate resources for contributing information to the PRC Information System and maintaining the information.

i. Recruit, hire, and retain qualified staff. Develop an organizational chart that illustrates the center's staffing plan.

j. Acquire and maintain the technological capacity, facilities, and university support for the center (e.g., software, space, equipment, etc.).

k. Provide training, technical assistance, or mentoring to health professionals, researchers, students, community members, and other partners, as appropriate.

2. CDC Activities

a. Convene semi-annual meetings of PRCs to facilitate research collaboration and information sharing.

b. Conduct onsite visits of PRCs to provide consultation and technical support and help recipients meet program objectives and cooperative agreement requirements.

c. Provide consultation and other technical assistance to help recipients use the PRC Information System for recording and disseminating research results.

d. Collect, organize, and disseminate information on PRC research pertinent to the PRC Program's Guiding Principles (http://www.cdc.gov/prc).

e. Provide support to the PRC National Community Committee to promote capacity-building and community participation in the PRC Program.

f. Guide an external, peer-reviewed funding mechanism to enhance centers' opportunities for prevention research consistent with their mission.

g. Organize information-sharing sessions to guide recipients in developing their center-specific logic models consistent with the national framework.

h. Serve as a scientific and professional resource for projects developed through the PRCs' national committee structure.

i. Inform recipients about the laws and regulations pertaining to human subjects research and conduct inquiries concerning allegations of scientific misconduct.

j. Evaluate and monitor recipients' progress toward meeting program objectives and goals.

F. Content

Letter of Intent

A Letter of Intent (LOI) is required for this program. The Program Announcement title and number must appear in the LOI. The LOI should be no more than three double-spaced pages, printed on one side, with one-inch margins, and 12-point font. The LOI, which will be used in planning for the external peer review panel, should include the following information: (1) The name, address, telephone number, fax number, and E-mail address of a contact person from the applicant's institution; (2) name of the Principal Investigator; (3) center name and location; (4) description of how the center meets the eligibility requirements contained in Section C of this announcement; (5) a brief description of the center's research focus (a 3-4 line description); and (6) a brief description of the center's proposed activities (maximum of one paragraph). Note: Each university may submit only one application per round of competition. Attachments, booklets, or other documents will not be accepted with the LOI.

Applications

The Program Announcement title and number must appear in the application. Use the information in the Program Requirements, Other Requirements, and Evaluation Criteria sections to develop the application content. The application will be evaluated on the criteria listed, so it is important to follow them in the application. The narrative should be no more than 120 double-spaced pages, printed on one side, with one-inch margins, and 12-point font, excluding appendices and PHS Form 398. Appendices must not exceed 50-pages and must be hard copy documents (i.e., no audiovisual materials or posters). Curriculum vitae, letters of support, and memoranda of understanding should be included as appendices; however, these documents will not be counted against the 50-page limit. Instructions contained here regarding font and page length supersede those in the PHS Form 398. The narrative should consist of the following items, in the order listed:

Evaluation

An infrastructure of resources and personnel is required to support center-level evaluation. Applicants should have the capacity to (1) establish a five-year evaluation plan; (2) conduct center-level evaluation; and (3) collaborate with national partners in the planning, implementation, and evaluation of national PRC Program evaluation strategies (See Appendix B for a description of Developing an Evaluation Framework: Insuring National Excellence [Project DEFINE].) To assure that applicants have this capacity, applicants should, at a minimum, address the following:

1. Create a center-level logic model specifying the center's health priorities and expected outcomes. Within the logic model, define the inputs, activities, outputs, outcomes, evaluation, and contextual conditions for the center. This logic model can be adapted from the national PRC Program conceptual framework (See Appendix B) to fit the specific components of the individual center. In addition to the logic model, a narrative description of each component must be included. Please include the center's mission within the narrative, and limit the mission statement to one to two sentences. Further, within this narrative describe how each component of the center's model is related to the national PRC Program conceptual framework.

2. Document experiences in conducting program evaluations in the past five years. Describe how the center will continue or enhance its evaluation expertise as it relates to the center-level evaluation.

3. Create and describe a five-year plan for evaluating the critical components of the center's logic model. The plan should include evaluation goals and related questions and describe how the plan was developed in collaboration with the centers' community committee.

4. Address how the center's evaluation will consider the following:

a. The overarching national program evaluation questions: (1) How is the center contributing to changes in public health research, practice, and policy; and (2) What types of partnerships has the center established and what effect have these relationships had on the goal of building community capacity for public health practice and disease prevention?

b. The national performance indicators. The performance indicators will be reported on annually through the PRC information system.

Collaborations/Partnerships

An infrastructure of resources and personnel is required to support collaboration with partners. Collaboration with partners and the defined community in program planning and activities can increase the success of programs and enhance community capacity. Applicants should have the capacity to (1) establish and maintain relationships with partners; (2) facilitate the establishment and maintenance of the center's community committee(s); and (3) collaborate with partners on the planning and implementation of core research. To assure that applicants have this capacity, applicants should, at a minimum, address the following:

1. Define and describe the primary community or communities that the center's activities will serve (e.g., describe population size, geographic boundaries, racial and ethnic makeup, socioeconomic status, etc.).

2. Describe the plan for establishing or maintaining the center's community committee(s). (See the glossary for additional information regarding the center community committee.) This plan should include, at a minimum, the following: (a) The intended composition and membership of the committee and how the constituents reflect the community described in item 1 of this section; (b) the proposed mission and role for the committee in the center's planning and activities, consistent with the logic model; (c) the plan for developing or refining guidelines for the community committee over the first year of the funding period; (d) the plan for communication between the community committee and the center staff, and how this plan is linked to the center's overall communication plan; and (e) how the center's community committee members will participate in and communicate with the CDC PRC NCC. (See Appendix C for a description of the CDC PRC NCC.) Provide evidence of commitment and cooperation of current and potential members of the center's community committee(s) (e.g., letters of support, memoranda of understanding, or examples of prior collaboration.)

3. Identify and describe other partners such as state and local health departments, community groups and agencies, and academic units. At a minimum, briefly describe: (a) Past partners, new partners, and proposed partners; (b) the proposed methods for establishing and maintaining these partnerships, including how the lessons learned from previous partnerships will be applied to the proposed methods; and (c) the partners involvement in the centers proposed activities. In this section, specifically address the partners' role in developing this proposal and partners' expectations about their roles in the planning and implementation of the center's activities. Provide evidence of commitment and cooperation of current and potential partners (e.g., letters of support, memoranda of understanding, and examples of prior collaborations).

Research

An infrastructure of resources and personnel is required to support research in the center. Applicants should have the capacity to (1) establish a five-year research agenda; (2) conduct core research and other prevention research as described in the research agenda; and (3) effectively collaborate with partners in the planning, implementation, and dissemination of core research. To assure that applicants have this capacity, applicants should, at a minimum, address the following:

1. Provide evidence of having identified national, regional, or local health priorities and health disparities within the community and of having identified them in collaboration with community partners.

2. Document experience in successfully conducting, evaluating, and publishing prevention research in the past five years. In particular, describe community-based research activities and provide evidence of community involvement in those activities.

3. Describe the center's five-year research agenda, including the goals and objectives. Describe how this agenda helps fulfill the center's mission. If the research agenda is also supported by non-PRC Program funding sources, identify the other funders.

4. Provide a detailed description of the center's participatory, community-based core research project and how it will further the field of prevention research. The long-term outcome should be applicable to public health programs and policies. The core research project can address any of the three types of applied research: (1) Determinant research, which examines how risk and protective factors affect health and how this research is essential for developing effective interventions; (2) intervention research, which examines the effectiveness of strategies or programs in reducing disease and promoting health; or (3) dissemination research, which examines strategies for promoting the adoption and maintenance of effective programs.

The applicant should use the following template to describe the core research project:

a. Title of the project

b. Project Director/Lead Investigator for the project

c. Institution(s)/partners involved in the project

d. Categorization of the project as determinant, intervention, or dissemination research

e. Relationship of the project to the center's mission and health priorities

f. Relationship of the project to HHS objectives (e.g., Healthy People 2010)

g. Indication of whether the project is new or ongoing. (If ongoing, describe the prior work on this project.)

h. Detailed summary of the project:

(1) Background

(2) How the project furthers the field of prevention research

(3) Goals and objectives

(4) Proposed timeframe for the project

(5) Methods and measures

(6) Setting and context

(7) Study participants and recruitment strategy

(8) Intervention (if applicable)

(9) Expected outcomes and how the center intends to communication and disseminate these outcomes

i. Evidence of community participation in planning the core project. Describe how the center will collaborate with partners on refining and developing the research methodology, recruiting of research participants, and reporting and disseminating research findings.

j. Describe how the core research project is integrated into the centers five-year research agenda.

Communication/Dissemination Activities

An infrastructure of resources and personnel is required to support communication functions. These functions will help ensure that key research, dissemination, and managerial objectives are met. Applicants should have the capacity to (1) disseminate research by making its findings, methods, and tools available; (2) keep stakeholders (i.e., researchers, practitioners, community members, and policymakers) abreast of the center's accomplishments; and (3) account for the grant funds dispersed by producing products that reflect research progress and results. To assure that applicants have this capacity, applicants should, at a minimum, address the following:

1. Define and describe how the center's communication and dissemination activities will be integrated into the center's research agenda and activities as described in the logic model narrative. Show how the community's demographic and cultural profile will be taken into consideration. Describe how work with collaborators and other partners will extend the center's reach. Describe how the center intends to affect local, state, or national policy, and other potential outcomes through communication and dissemination efforts related to the research agenda.

2. Describe the methods the center will use to communicate and disseminate its products and other information. At a minimum address the following: a. Plans for publications and distribution of materials such as scientific papers, conference reports, newsletters, educational and training materials. b. Plans for meetings, personal interactions, and sharing of information with collaborators for the development of long-term partnerships. c. Plans for electronic dissemination of products and other information through the PRC Information System and any other means (e.g., Web sites).

d. Plans for media releases and statements or the pursuit of opportunities for media coverage.

3. Describe the center's infrastructure of resources and personnel that will support the identified communication and dissemination activities. At a minimum, describe the following:

a. Ability to understand community-based research in public health and the constituent communities/stakeholders.

b. Ability to translate the content of the center's activities for different audiences.

c. Ability to participate in strategic communication planning and the setting of center-wide standards.

d. Access to personnel and resources as applicable for layout and design, Web site construction, photography, proofreading, other development and production activities, and the maintenance of the PRC Information System.

Infrastructure

An infrastructure of personnel and resources is required to support center functions and processes. This infrastructure will help ensure that adequate personnel, facilities, technology, and university support exist to accomplish the research agenda/activities described in the center's logic model narrative. Applicants should have the capacity to (1) recruit, hire, and retain faculty and staff having the expertise to implement center projects and activities; (2) acquire, manage, and maintain the communications and information systems necessary to operate a PRC; and (3) acquire and maintain university support for the center. To assure that applicants have this capacity, applicants should, at a minimum, address the following:

1. Provide an organizational chart for the center showing all organizational units and functions. The chart should also reflect the activities articulated in the center's logic model.

2. Describe the center's staffing and management plan. Describe each proposed position and discuss how the position provides the scientific and technical expertise needed to carry out both research and non-research activities. Describe the minimum criteria and the required expertise for each position. Describe the qualifications of the proposed staff. Describe how the proposed staff will interact with each other and with the university's leaders to accomplish the center's goals and objectives. This discussion should highlight the center's (a) leadership staff; (b) research staff; (c) evaluation staff; (d) communication and dissemination staff; (e) training staff; (f) information management staff; and (g) fiscal administration staff.

3. Describe how your center will be integrated within the university structure. Describe the facilities in which staff will work and how these facilities enhance the center's ability to complete the proposed activities.

4. Describe the center's plan to enhance its core capacity over the five-year period, including the commitment and capability to obtain the communication, information systems, and other tools necessary to accomplish goals and objectives (i.e., computer equipment, telephones, facsimile machines, scanners, scientific software, etc.).

Training/Education

An infrastructure of resources and personnel is required to support training, technical assistance, or mentoring of practitioners, researchers, students, community members, and other partners, as applicable. Applicants should have the capacity to assess, plan, implement, and evaluate training, technical assistance or mentoring activities. Applicants, at a minimum, should address the following:

1. Describe the center's assets or needs assessment (past, current, or proposed) for training, technical assistance, or mentoring. Explain collaboration with partners in the assets or needs assessment.

2. Describe the center's five-year plan for providing training, technical assistance, or mentoring. This plan should include (a) goals and objectives, (b) partner collaboration, and (c) how the plan reflects the mission of the center and the assets or needs assessment described above. Describe how any lessons learned from prior training, technical assistance, or mentoring activities during the past five years will be applied to the proposed plan. Additionally, describe training facilities and resources (e.g., ability to print materials, use video and computer equipment, and develop websites).

Budget Information

Provide a line-item budget and narrative justification for all requested costs that are consistent with the goals, objectives, and proposed research activities, to include the following:

1. Line-item breakdown and justification for all personnel, i.e., name, position title, annual salary, percentage of time and effort, and amount requested.

2. Line-item breakdown and justification for all contractors and consultants, to include the following:

(a) Name of contractor or consultant

(b) Period of performance

(c) Method of selection (e.g., competitive or sole source)

(d) Scope of work

(e) Method of accountability

(f) Itemized budget

3. To request direct assistance assignees, include:

(a) Number of assignees

(b) Description of the position and proposed duties for each assignee

(c) Justification of inability to hire locally with financial assistance

(d) Justification for request

(e) Name of intended supervisor

(f) Opportunities for training, education, and work experiences for assignees

(g) Description of assignee's access to computer equipment for communication with CDC (e.g., personal computer and location, shared computer at on-site workstation, shared computer at central office).

G. Submission and Deadline

Letter of Intent (LOI) Submission:

First Round of Competition

On or before April 10, 2003, submit a signed original and two copies of the LOI to the Grants Management Specialist identified in the Where to Obtain Additional Information section.

Application Forms

Submit the signed original and two copies of the application PHS Form 398 (OMB Number 0925-0001) (adhere to the instructions on the Errata Instruction Sheet for PHS 398). Forms are available at the following Internet address: http://www.cdc.gov/od/pgo/forminfo.htm.

If you do not have access to the Internet, or if you have difficulty accessing the forms on-line, you may contact the CDC Procurement and Grants Office Technical Information Management Section (PGO-TIM) at 770-488-2700. Application forms can be mailed to you.

Submission Date, Time, and Address

First Round of Competition

The application must be received by 4 p.m. Eastern Time June 16, 2003. Submit the application to: Technical Information Management-PA# 04003, CDC Procurement and Grants Office, 2920 Brandywine Road, Atlanta, GA 30341-4146.

Applications may not be submitted electronically.

CDC Acknowledgment of Application Receipt

A postcard will be mailed by PGO-TIM, indicating that CDC has received the application.

Deadline

Letters of Intent and applications shall be considered as meeting the deadline if they are received before 4 p.m. Eastern Time on the deadline date. Any applicant who sends an application by the U.S. Postal Service or commercial delivery service must ensure that the carrier can guarantee delivery of the application by the closing date and time. If an application is received after closing due to (1) carrier error, when the carrier accepted the package with a guarantee for delivery by the closing date and time, or (2) significant weather delays or natural disasters, CDC will, upon receipt of proper documentation, consider the application as having been received by the deadline.

Any application that does not meet the above criteria will not be eligible for competition and will be discarded. Applicants will be notified of their failure to meet the submission requirements.

H. Evaluation Criteria

Letter of Intent

The Letter of Intent will be evaluated against the eligibility criteria contained in the Eligible Applicants section of this Program Announcement.

Application

Applicants are required to provide measures of effectiveness that will demonstrate the accomplishment of the objectives identified in the cooperative agreement. These measures of effectiveness shall be submitted with the application and shall be an element of evaluation.

Each application will be individually evaluated against the following criteria by an external peer review panel:

Evaluation (20 points)

1. To what extent does the applicant appropriately construct a center-level logic model and provide a narrative description of components of the logic model?

2. To what extent does the applicant sufficiently describe and justify how each component of the center's logic model relates to or differentiates from the national PRC Program conceptual framework?

3. To what extent does the applicant describe relevant evaluation experiences and expertise as it relates to conducting an evaluation of the applicant's center?

4. To what extent does the applicant adequately lay out a five-year evaluation plan for evaluating the critical components of the center's logic model, including the goals and questions?

5. How well does the applicant illustrate how the center's evaluation plan is related to the national PRC Program evaluation activities, which include annual reporting on national performance indicators?

Collaborations/Partnerships (20 points)

1. To what extent does the applicant adequately define and describe the primary community or communities that the center's activities serve?

2. To what extent does the applicant adequately describe the center's community committee, particularly its initial mission, roles, and composition and plans for developing or refining guidelines? Does the applicant provide letters of support or other evidence from these partners of active participation in this collaboration?

3. To what extent does the applicant appropriately describe the center's community committee relationship to the center's communication plan and the CDC PRC NCC?

4. To what extent does the applicant adequately describe the past and newly established partnerships, the roles of these partners, and the methods for establishing and maintaining the partnerships?

5. To what extent does the applicant adequately describe the proposed activities with the identified partners? Does the applicant provide letters of support or other evidence from these partners?

Research (20 points)

1. To what extent does the applicant provide sound evidence of having identified the health priorities and health disparities in the community? Were these priorities identified in collaboration with the center's partners?

2. To what extent has the applicant demonstrated success in conducting, evaluating, and publishing previous prevention research in the past five years? What percentage of these activities could be described as community-based participatory research?

3. To what extent does the applicant specify the goals and objectives for the center's five-year research agenda and relate this agenda to the center's mission?

4. To what extent does the applicant adequately describe the proposed core research project or projects? In particular, how appropriate is the description for the type of project, its linkage to the center's mission and priorities identified in the logic model, its linkage to HHS objectives, and its evidence of community participation in developing and conducting the project? To what extent are the research methods proposed of sound scientific quality and do they further the field of prevention research? To what extent is the core research project integrated into the center's five-year research agenda?

Items 5 and 6 must be addressed but these items will not be scored

5. To what extent does the applicant adequately address the requirements of Title 45 CFR part 46 for the protection of human subjects? This component is not scored; however, an application can be disapproved if the perceived research risks are sufficiently serious and the protection against risks is so inadequate as to make the entire application unacceptable.

6. To what extent does the applicant adequately address the CDC policy requirements for the inclusion of women, ethnic, and racial groups in the proposed research? (See Attachment 1, AR-2 for more information). This policy includes (a) the proposed plan for the inclusion of both sexes and racial and ethnic minority populations for appropriate representation; (b) the proposed justification when representation is limited or absent; (c) a statement as to whether the design of the study is adequate to measure differences when warranted; and (d) a statement as to whether the plans for recruitment and outreach for study participants include the process of establishing partnerships with community(ies) and recognition of mutual benefits.

Communication/Dissemination (15 points)

1. To what extent are the applicant's described communications and dissemination activities integrated into the center's goals and objectives? Has the applicant adequately addressed the diversity or special needs of the community or subgroups and described how it will work with its partners. Does the applicant anticipate these activities will have an effect on local, state, or national policy, and other potential outcomes?

2. How well does the applicant describe the proposed methods for the center's communication and dissemination activities? To what extent can these methods help accomplish the center's goals and objectives?

3. To what extent will the applicant's described infrastructure of resources and personnel adequately help support the center's communication and dissemination activities?

Infrastructure (15 points)

1. Does the applicant provide an organizational chart? How well does the chart represent the center's activities? How well does the organizational structure facilitate the center's activities?

2. To what extent does the applicant describe the positions needed to accomplish the center's goals and objectives? How well does the applicant describe the staffing plan, and to what extent does the plan describe the experience, expertise, and percentage of effort required of the center's leadership, research, evaluation, communications, training, information management, and fiscal administration staff? Has the applicant explained how it will increase its capacity over time? Is the staffing plan adequate for the center to accomplish its proposed goals and objectives?

3. How well does the applicant describe the university's commitment to the center (e.g., facilities, technological resources, etc.)? Is the university commitment adequate to establish and maintain an identity for the proposed center?

Training/Education (10 points)

1. To what extent does the applicant sufficiently describe and justify the center's assets or needs assessments for training, technical assistance, or mentoring activities?

2. To what extent does the applicant adequately lay out a five-year training, technical assistance, or mentoring plan, including how the plan reflects the mission of the center and the assets or needs assessment described above?

I. Other Requirements

Technical Reporting Requirements

Provide CDC with original plus two copies of:

1. Annual progress reports.

2. Financial status report, no more than 90 days after the end of the budget period.

3. Final financial and performance reports, no more than 90 days after the end of the project period.

Applicants will send all reports to the Grants Management Specialist identified in the Where to Obtain Additional Information section of this announcement.

In addition, the applicant will be responsible for submitting information on program performance through the PRC Information System. This will include, but is not limited to the following: (1) Providing information on all projects (i.e., Core projects, special interest projects, and other funded projects) and products (i.e., interim reports, publications, presentations, surveys, etc.); (2) providing semi-annual updates to the information contained in the system; and (3) collaborate with the national PRC Program on the continued development and improvement of the information system.

Additional Requirements

The following additional requirements are applicable to this program. For a complete description of each, see Attachment 1 of the program announcement, as posted on the CDC web site.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

AR-22 Research Integrity

See Appendix E for supplemental information about Research Integrity, Human Subjects Requirements, and Institutional Review Board policy.

J. Where to Obtain Additional Information

This and other CDC announcements, the necessary applications, and associated forms can be found on the CDC Web site, Internet address: http://www.cdc.gov.

Click on “Funding” then “Grants and Cooperative Agreements.”

For general questions about this announcement, contact Technical Information Management, CDC Procurement and Grants Office, 2920 Brandywine Road, Atlanta, GA 30341-4146, Telephone: 770-488-2700.

For business management and budget assistance, contact: Lucy Picciolo, Grants Management Specialist, Grants Management Branch, Procurement and Grants Office, Centers for Disease Control and Prevention, Room 3000, 2920 Brandywine Road, Atlanta, GA 30341-4146, Telephone: 770-488-2683, E-mail address: LPicciolo@cdc.gov.

For program technical assistance, contact: Robert Hancock, Project Officer, Prevention Research Centers Office, National Center for Chronic Disease Prevention and Health Promotion, Centers for Disease Control and Prevention, 4770 Buford Highway, Northeast, MS K45, Atlanta, GA 30341-3724, Telephone: 770-488-5395, E-mail address: RHancock@cdc.gov.

Dated: March 20, 2003.
Sandra R. Manning,
Director, Procurement and Grants Office, Centers for Disease Control and Prevention.

[FR Doc. 03-7315 Filed 3-26-03; 8:45 am]

BILLING CODE 4163-18-P